DEPARTMENT OF TRANSPORTATION

Federal Aviation Administration

14 CFR Part 39

[Docket No. FAA-2012-0739; Directorate Identifier 2012-SW-044-AD; Amendment 39-17125; AD 2012-14-11]

RIN 2120-AA64

Airworthiness Directives; Various Restricted Category Helicopters

AGENCY: Federal Aviation Administration (FAA), DOT.

ACTION: Final rule; request for comments.

SUMMARY: We are adopting a new airworthiness directive (AD) for Arrow Falcon Exporters, Inc. (AFE), Rotorcraft Development Corporation (RDC), and San Joaquin Helicopters (SJH) Model OH-58A, OH-58A+, and OH-58C helicopters to require inspecting the main rotor mast (mast) for a crack. This AD is prompted by two reported failures of the mast from corrosion-initiated fatigue cracking. The actions specified by this AD are intended to prevent failure of the mast and subsequent loss of control of the helicopter.

DATES: This AD becomes effective August 7, 2012.

We must receive comments on this AD by September 21, 2012.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket: You may examine the AD docket on the Internet at http://www.regulations.gov or in person at the Docket Operations Office between 9 a.m. and 5 p.m., Monday through Friday, except Federal holidays. The AD docket contains this AD, the economic evaluation, any comments received, and other information. The street address for the Docket Operations Office (telephone 800-647-5527) is in the ADDRESSES section. Comments will be available in the AD docket shortly after receipt.

For service information identified in this AD, contact Arrow Falcon Exporters, Inc., 2081 South Wildcat Way, Porterville, CA 93257; telephone (559) 781-8604; fax (559) 781-9271; email afe@arrowfalcon.com.

You may review the referenced service information at the FAA, Office of the Regional Counsel, Southwest Region, 2601 Meacham Blvd., Room 663, Fort Worth, Texas 76137.

FOR FURTHER INFORMATION CONTACT: John Cecil, Aviation Safety Engineer, Los Angeles Aircraft Certification Office, Transport Airplane Directorate, FAA, 3960 Paramount Blvd., Lakewood, CA 90712; telephone (562) 627-5228; email john.cecil@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

AFE reported two failures of a mast on an OH-58A+ and an OH-58C helicopter used in agricultural spraying operations. Investigation revealed that the mast failures were caused by fatigue cracking, which initiated from corrosion pitting found in the threaded section of the mast approximately 45 inches from the top of the mast. AFE issued Alert Service Bulletin: 2012-58-01, Revision 1, dated February 20, 2012 (ASB 2012-58-01), which specifies overhauling and inspecting the mast for any cracks, pitting, or corrosion by following the procedures in the latest revision of Aviation Unit and Intermediate Maintenance Manual TM55-1520-228-23. ASB 2012-58-01 further specifies replacing any mast with a crack, pitting, or corrosion beyond surface rust that is removed with a wire brush or steel wool in the threaded portion of the mast.

FAA's Determination

We are issuing this AD because we evaluated all the relevant information and determined the unsafe condition described previously is likely to exist or develop in other helicopters of the same type design.

AD Requirements

This AD requires overhauling the mast and performing specific inspections for a crack, pitting, or corrosion in the threaded area of the mast and associated parts. If there is a crack, pitting, or corrosion, this AD requires replacing the mast with an airworthy mast. This AD also requires the operator to report any crack, pitting, or corrosion found during the inspections. The report must include the number of hours time-in-service (TIS) and calendar time since the last overhaul of the mast.

Differences Between This AD and the Service Information

RDC and SJH helicopters are included in this AD because they have the same mast design and are operated similarly to the AFE fleet. This AD does not include the 1200 hour TIS repetitive inspections required by ASB 2012-58-01.

Interim Action

We consider this AD to be an interim action. We are considering a repetitive inspection for this unsafe condition. The planned inspection interval would allow sufficient opportunity for prior public notice and comment.

Costs of Compliance

We estimate that this AD will affect 80 helicopters of U.S. Registry, and that operators may incur the following costs in order to comply with this AD. Inspecting the mast and reporting the results will require about 20 work hours at an average labor rate of $85 per hour, for a total cost of $1,700 per helicopter, and a total cost to the U.S. operator fleet of $136,000. Replacing a cracked main rotor mast will require about 20 work hours at an average labor rate of $85 per hour, and required parts will cost about $11,891 for a total cost per helicopter of $13,591.

FAA's Justification and Determination of the Effective Date

Providing an opportunity for public comments prior to adopting these AD requirements would delay implementing the safety actions needed to correct this known unsafe condition. Therefore, we find that the risk to the flying public justifies waiving notice and comment prior to the adoption of this rule because the required corrective actions must be accomplished within 30 days.

Since an unsafe condition exists that requires the immediate adoption of this AD, we determined that notice and opportunity for public comment before issuing this AD are impracticable and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by Reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-14-11 Various Restricted Category Helicopters: Amendment 39-17125; Docket No. FAA-2012-0739; Directorate Identifier 2012-SW-044-AD.

(a) Applicability

This AD applies to Arrow Falcon Exporters, Inc. (AFE), Rotorcraft Development Corporation (formerly Garlick Helicopter Corporation, and Garlick Helicopter, Inc.), and San Joaquin Helicopters Model OH-58A, OH-58A+, and OH-58C helicopters, certificated in any category.

(b) Unsafe Condition

This AD defines the unsafe condition as a crack in the main rotor mast, which could result in failure of the mast and subsequent loss of control of the helicopter.

(c) Effective Date

This AD becomes effective August 7, 2012.

(d) Compliance

You are responsible for performing each action required by this AD within the specified compliance time.

(e) Required Actions

(1) Within 30 days, unless accomplished previously within the last 12 months:

(i) Overhaul the main rotor mast assembly and magnetic particle inspect the mast; mast bearing nut; plate, mast and seal; and bearing liner for a crack.

(ii) Fluorescent penetrant inspect the locking plate for a crack.

(iii) Using a 10X or higher magnifying glass, inspect the threaded area of the mast as shown in area E of figure 1 to paragraph (e) of this AD for pitting, corrosion, or a crack. Remove any surface rust with a wire brush or steel wool.

(2) If there is a crack, pitting, or corrosion, before further flight, replace the mast with an airworthy mast.

(3) Within 10 days, report any findings of a crack, pitting, or corrosion to the address listed in paragraph (g)(1) of this AD. Include the number of hours TIS and calendar time since the last overhaul and inspection of the mast and the restricted category type of the helicopter.

(f) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(g) Alternative Methods of Compliance (AMOCs)

(1) The Manager, Los Angeles Aircraft Certification Office, FAA, may approve AMOCs for this AD. Send your proposal to: John Cecil, Aviation Safety Engineer, Los Angeles Aircraft Certification Office, Transport Airplane Directorate, FAA, 3960 Paramount Blvd., Lakewood, CA 90712; telephone (562) 627-5228; email john.cecil@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Additional Information

(1) Arrow Falcon Exporters, Inc., Alert Service Bulletin: 2012-58-01, Revision 1, dated February 20, 2012, which is not incorporated by reference, contains more information about the subject of this AD.

(2) For service information identified in this AD, contact Arrow Falcon Exporters, Inc., 2081 South Wildcat Way, Porterville, CA 93257; telephone (559) 781-8604; fax (559) 781-9271; email afe@arrowfalcon.com.

(2) You may review the service information at the FAA, Office of the Regional Counsel, Southwest Region, 2601 Meacham Blvd., Room 663, Fort Worth, Texas 76137.

(i) Subject

Joint Aircraft Service Component (JASC) Code: 6300: Main Rotor Drive.

Issued in Fort Worth, Texas, on July 5, 2012.
Kim Smith,
Manager, Rotorcraft Directorate, Aircraft Certification Service.

[FR Doc. 2012-17279 Filed 7-20-12; 8:45 am]

BILLING CODE 4910-13-P